DEPARTMENT OF ENERGY

Energy Information Administration

Agency Information Collection Activities: Information Collection Extension

AGENCY: U.S. Energy Information Administration (EIA), Department of Energy (DOE).

ACTION: Notice and request for comments.

SUMMARY: EIA, pursuant to the Paperwork Reduction Act of 1995, intends to extend (with changes) for three years with the Office of Management and Budget (OMB) Form OE-417 Electric Emergency Incident and Disturbance Report, OMB Control Number 1901-0288. Form OE-417 enables the U.S. Department of Energy (DOE) to monitor emergencies and significant incidents that affect U.S. electric power systems. The information gathered allows DOE to conduct post-incident reviews examining significant interruptions of electric power or threats to the national electric system.

DATES: Comments regarding this proposed information collection must be received on or before October 16, 2017. If you anticipate difficulty in submitting comments within that period, contact the person listed in ADDRESSES as soon as possible.

ADDRESSES: Written comments may be sent to OE-417 Recertification, C/O Matthew Tarduogno, U.S. Department of Energy, 1000 Independence Avenue SW., Washington, DC 20585 or by fax at 202-586-2623, or by email at OE417@hq.doe.gov.

FOR FURTHER INFORMATION CONTACT: Requests for additional information or copies of the information collection instrument and instructions should be directed to Matthew Tarduogno, U.S. Department of Energy, 1000 Independence Avenue SW., Washington, DC 20585, or by phone at 202-586-2892, or by email at matthew.tardugono@hq.doe.gov. Additional information may also be found at: https://www.oe.netl.doe.gov/oe417.aspx.

SUPPLEMENTARY INFORMATION: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No. 1901-0288.

(2) Information Collection Request Title: Electric Emergency Incident and Disturbance Report.

(3) Type of Request: Renewal.

(4) Purpose: The U.S Department of Energy uses Form OE-417 Emergency Incident and Disturbance Report to monitor emergencies and incidents that affect U.S. electric power systems. The information gathered allows DOE to conduct post-incident reviews examining significant interruptions, or potential interruptions, of electric power or threats to the national electric system. Form OE-417 enables DOE to meet the Department's national security responsibilities and requirements as the lead agency for Emergency Support Function (ESF) #12—Energy under the National Response Framework and the Sector-Specific Agency for energy under Presidential Policy Directive (PPD) 21 and PPD 41. The information may also be shared with other non-regulatory federal agencies assisting in emergency response and recovery operations, or investigating the causes of an incident or disturbance to the national electric system. Public summaries are posted to the DOE Form OE-417 Web site on a monthly basis to keep the public informed.

(4a) Proposed Changes to Information Collection: The main proposed change to Form OE-417 is to incorporate questions that are or will be included in the North American Electric Reliability Corporation (NERC) EOP-004 Reliability Standard Event Reporting Form. Currently if an entity submits a Form OE-417 and elects to have it submitted to NERC, the entity does not need to file an EOP-004 Event Reporting Form; however there were some questions on EOP-004 Event Reporting Form that are not covered by Form OE-417. By incorporating these additional questions, and aligning language, entities will only be required to submit Form OE-417. This will reduce the reporting burden for the electric power industry. Additional changes to Form OE-417 clarify and improve the flow of questions.

1. The instructions will include a note that “NERC has determined that, for U.S. NERC reporting entities, the proposed revised Form OE-417 meets NERC's submittal requirements” (i.e. Form EOP-004).

2. Alternative methods of filing Form OE-417 are added to allow the use of email submissions; however, online submissions remain the preferred method.

3. Under “Criteria for Filing,” three categories of submission will be shown: “Emergency Alert; Normal Report; System Report” to provide better clarity and easy reference.

4. Minor edits were made to the Alert criteria 5 and 6 to align with EOP-004 Reliability Standard terminology.

5. Under “Criteria for Filing” section: 12 new data elements are added to collect the additional information that NERC collects or will collect on under the EOP-004 Reliability Standard. The additional questions are in a new category of submission called “System Report” and include:

a. Damage or destruction of a Facility within its Reliability Coordinator Area, Balancing Authority Area or Transmission Operator Area that results in action(s) to avoid a Bulk Electric System Emergency;

b. Damage or destruction of its Facility that results from actual or suspected intentional human action;

c. Physical threat to its Facility excluding weather or natural disaster related threats, which has the potential to degrade the normal operation of the Facility. Or suspicious device or activity at its Facility;

d. Physical threat to its Bulk Electric System control center, excluding weather or natural disaster related threats, which has the potential to degrade the normal operation of the control center. OR suspicious device or activity at its Bulk Electric System control center;

e. Bulk Electric System Emergency resulting in voltage deviation on a Facility; a voltage deviation of equal to or greater than 10% of nominal voltage sustained for greater than or equal to 15 continuous minutes;

f. Uncontrolled loss of 200 Megawatts or more of firm system loads for 15 minutes or more from a single incident for entities with previous year's peak demand less than or equal to 3,000 Megawatts;

g. Total generation loss, within one minute of: Greater than or equal to 2,000 Megawatts in the Eastern or Western Interconnection or greater than or equal to 1,400 Megawatts in the ERCOT Interconnection;

h. Complete loss of off-site power (LOOP) affecting a nuclear generating station per the Nuclear Plant Interface Requirements;

i. Unexpected Transmission loss within its area, contrary to design, of three or more Bulk Electric System Facilities caused by a common disturbance (excluding successful automatic reclosing);

j. Unplanned evacuation from its Bulk Electric System control center facility for 30 continuous minutes or more;

k. Complete loss of Interpersonal Communication and Alternative Interpersonal Communication capability affecting its staffed Bulk Electric System control center for 30 continuous minutes or more;

l. Complete loss of monitoring or control capability at its staffed Bulk Electric System control center for 30 continuous minutes or more.

6. Re-labeled line numbers 1 through 20 to line numbers A through T to prevent confusion between line numbers and alert criteria.

7. Added an Alert status category “system report,” which shall be filed by the later of 24 hours after the recognition of the incident OR by the end of the next business day. This change aligns with the EOP-004 Reliability Standard. 4:00 p.m. local time will be definition for the end of the business day.

8. Under Electric Emergency Incident and Disturbance Report section, lines J, K, L were reorganized into “Cause, Impact, and Action Taken” for clarity and ease of use and additional items were added to align with NERC's EOP-004 Reliability Standard.

9. The burden per response for completing Form OE-417 is reduced from 2.16 hours to 1.8 hours based on findings from the results from cognitive research conducted by the U.S. Energy Information Administration.

EIA also proposes to amend its data protection policy for information reported on Schedule 2 of Form OE-417. Currently this information is protected from public release to the extent that it satisfies the criteria for exemption under the Freedom of Information Act (FOIA), 5 U.S.C. 552, the DOE regulations, 10 CFR 1004.11 implementing FOIA, and the Trade Secrets Act, 18 U.S.C. 1905. EIA proposes to use the Critical Energy Infrastructure Information (CEII) regulations as set forth by the Federal Energy Regulatory Commission to implement the requirements of the Fixing America's Surface Transportation (FAST) Act, Public Law 114-94, pursuant to section 215A(d) of the Federal Power Act, as amended, to protect information reported on Schedule 2 in addition to continuing to apply FOIA exemptions and using the Trade Secrets Act. This change will strengthen DOE's ability to protect information reported on Schedule 2 of Form OE-417 and authorize DOE to withhold company identifiable information from public release.

The new data protection provision for Form OE-417 will be as follows: The information reported on Schedule 1 will be considered “public information” and may be publicly released in company or individually identifiable form.

Information on Schedule 2 of Form OE-417 will not be disclosed to the public to the extent that it satisfies the criteria for exemption under the Freedom of Information Act (FOIA), 5 U.S.C. 552, the DOE regulations, 10 CFR 1004.11, implementing the FOIA, the Trade Secrets Act, 18 U.S.C. 1905 and Critical Energy Infrastructure Information regulations as defined by the Federal Energy Regulatory Commission pursuant to section 215A(d) of the Federal Power Act, as amended.

In accordance with the Federal Energy Administration Act, the DOE provides company-specific protected data to other Federal agencies when requested for official use. The information reported on this form may also be made available, upon request, to another component of DOE; to any Committee of Congress, the U.S. Government Accountability Office, or other Federal agencies authorized by law to receive such information. A court of competent jurisdiction may obtain this information in response to an order. The information may be used for any non-statistical purposes such as administrative, regulatory, law enforcement, or adjudicatory purposes.

The data collected on Form OE-417, Electric Emergency Incident and disturbance Report, will be used by DOE to meet its overall national security and National Response Framework responsibilities.

(5) Annual Estimated Number of Respondents: 2,395.

(6) Annual Estimated Number of Total Responses: 300.

(7) Annual Estimated Number of Burden Hours: 5,315.

(8) Annual Estimated Reporting and Recordkeeping Cost Burden: $391,503.

Statutory Authority: Section 13(b) of the Federal Energy Administration Act of 1974, Pub. L. 93-275, codified as 15 U.S.C. 772(b) and the DOE Organization Act of 1977, Pub. L. 95-91, codified at 42 U.S.C. 7101 et seq. In addition, 15 U.S.C. 772(b); 764(a); 764(b); and 790a, of the Federal Energy Administration Act of 1974 (FEA Act), Pub. L. 93-275, as well as the Public Utility Regulatory Policies Act of 1978 (16 U.S.C. 2601, Pub. L. 93-275.

Issued in Washington, DC, on August 2, 2017.
Devon Streit,
Deputy Assistant Secretary, Infrastructure Security and Energy Restoration, Office of Electricity Delivery & Energy Reliability, U.S. Department of Energy.

[FR Doc. 2017-17255 Filed 8-15-17; 8:45 am]

BILLING CODE 6450-01-P